NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: Wednesday, February 3, 2010, at 7:30 a.m.; and Thursday, February 4, 2010 at 8 a.m.

PLACE: National Science Foundation, 4201 Wilson Blvd., Rooms 1235 and 1295, Arlington, VA 22230. All visitors must report to the NSF visitor desk at the 9th and N. Stuart Streets entrance to receive a visitor's badge. Public visitors must arrange for a visitor's badge in advance. Call 703-292-7000 or e-mail NationalScienceBrd@nsf.gov and leave your name and place of business to request your badge, which will be ready for pick-up at the visitor's desk on the day of the meeting.

STATUS: Some portions open, some portions closed.

Open Sessions

February 3, 2010

7:30 a.m.-7:35 a.m.

7:35 a.m.-8:30 a.m.

8:30 a.m.-10 a.m.

8:30 a.m.-8:50 a.m.

9 a.m.-10 a.m.

10 a.m.-12 p.m.

1 p.m.-1:45 p.m.

1 p.m.-1:20 p.m.

4:45 p.m.-5:45 p.m.

February 4, 2010

8 a.m.-9:30 a.m.

9:30 a.m.-10 a.m.

11:30 a.m.-12 p.m.

1 p.m.-3 p.m.

Closed Sessions

February 3, 2010

1:45 p.m.-3:45 p.m.

3:45 p.m.-4:45 p.m.

February 4, 2010

10 a.m.-10:30 a.m.

10:30 a.m.-11:30 a.m.

AGENCY CONTACT: Kim Silverman, ksilverm@nsf.gov, (703) 292-7000, http://www.nsf.gov/nsb/.

MATTERS TO BE DISCUSSED:

Wednesday, February 3, 2010

Chairman's Introduction

Open Session: 7:30 a.m.-7:35 a.m., Room 1235

• Chairman's Remarks.

Joint Session: Committee on Programs and Plans and Committee on Strategy and Budget

Open Session: 7:35 a.m.-8:30 a.m., Room 1235

• Committee Chairman's Remarks.

• Annual NSF Facilities Plan Presentation to the NSB.

• Discussion.

• Annual Timeline for Integration of Board MREFC Process with NSF Budget Process: Proposed Revision.

Committee on Programs and Plans (CPP)

Open Session: 8:30 a.m.-10 a.m., Room 1235

• Approval of December 2009 Minutes.

• Committee Chairman's Remarks.

• NSB Information Item: Access to LIGO Data by the Broader Community.

• NSB Information Item: DUSEL: Preliminary Design Effort.

• NSB Discussion Item: Update on Cyberinfrastructure Vision for 21st Century Discovery.

Task Force on the NSB 60th Anniversary

Open Session: 8:30 a.m.-8:50 a.m., Room 1295

• Approval of Minutes for the December 9, 2009 Meeting.

• Task Force Chairman's Remarks.

• Updates on NSB/NSF Anniversary Activities.

○ Distinguished Speakers at NSB Meetings.

○ OLPA Activities.

○ NSF 60th Anniversary Working Group Activities.

○ AAAS Symposium.

Committee on Strategy and Budget (CSB)

Open Session: 9 a.m.-10 a.m., Room 1295

• Approval of Minutes.

○ CSB Minutes, December 10, 2009.

○ Subcommittee on Facilities Teleconference, November 19, 2009.

• Committee Chairman's Remarks.

• FY 2010 Budget Update.

• FY 2011 Budget Update.

• ARRA Update.

• Strategic Plan Update.

• NSB Budget.

• Other Committee Business.

Committee on Education and Human Resources (CEH)

Open Session: 10 a.m.-12 p.m., Room 1235

• Approval of December 2009 Minutes.

• Update on the Next Generation of STEM Innovators.

• Perspectives and Discussion on STEM Education Challenges.

• Other Business.

Committee on Programs and Plans (CPP)

Open Session: 1 p.m.-1:45 p.m., Room 1235

• CPP Subcommittee on Polar Issues (SOPI):

○ SOPI Chairman's Remarks.

○ Director's Report—Office of Polar Programs (OPP).

○ Plans to Study Infrastructure and Logistics Needs in the Antarctic for the Next Decades.

Executive Committee (EC)

Open Session: 1 p.m.-1:20 p.m., Room 1295

• Approval of December 2009 Minutes.

• Executive Committee Chairman's Remarks.

• Updates or New Business from Committee Members.

Committee on Programs and Plans (CPP)

Closed Session: 1:45 p.m.-3:45 p.m., Room 1235

• Committee Chairman's Remarks.

• CPP Subcommittee on Polar Issues (SOPI):

○ NSB Action Item: IceCube Maintenance and Operations 2010.

○ NSB Action Item: Extension of Contract Ceiling for the NSF Contract for Arctic Logistics in Support of Research.

• NSB Action Item: Award for NEON: Observatory Design and Prototyping.

Committee on Strategy and Budget (CSB)

Closed Session: 3:45 p.m.-4:45 p.m., Room 1235

• Subcommittee on Facilities (SCF).

○ SCF Chairman's Remarks.

○ Overview of Materials Provided for May 2010 Facilities Portfolio Review.

○ Discussion of Portfolio Review Materials.

• Other Committee Business.

Committee on Audit and Oversight (A&O)

Open Session: 4:45 p.m.-5:45 p.m., Room 1235

• Approval of Minutes, December 9, 2009.

• Committee Chairman's Opening Remarks.

• Chief Financial Officer's Update.

• Procurement Executive Update.

• ARRA Update.

• Financial System Modernization—“iTRAK”.

• Inspector General's ARRA Update.

• Closed Investigative Matters.

• Office of International Science and Engineering: Research Integrity in an International Context.

• Committee Chairman's Closing Remarks.

Thursday, February 4, 2010

Committee on Programs and Plans (CPP)

Open Session: 8 a.m.-9:30 a.m., Room 1235

• NSB Information Item: NCAR—Supercomputing Facilities.

• NSB Information Item: National High Magnetic Field Laboratory.

• NSB Information Item: Extension of Gemini Cooperative Agreement.

• NSB Information Item: DataNet.

• NSB Information Item: ESPCoR RII-T1.

• NSB Information Item: ARI-R2.

Committee on Science and Engineering Indicators (SEI)

Open Session: 9:30 a.m.-10 a.m., Room 1235

• Approval of December 2009 Minutes.

• Chairman's Remarks.

• Report on Washington Rollout of Indicators 2010.

• Report on Plans for Second Indicators 2010 Rollout at AAAS Annual Meeting in San Diego.

• Chairman's Summary.

Plenary Executive Closed

Closed Session: 10 a.m.-10:30 a.m., Room 1235

• Approval of Plenary Executive Closed Minutes, December 2009.

• Board Member Proposals.

• Election of ad hoc Committee on Nominating for NSB Elections.

• Approval of Honorary Award Recipient.

Plenary Closed

Closed Session: 10:30 a.m.-11:30 a.m., Room 1235

• Approval of Plenary Closed Minutes, December 2009.

• Awards and Agreements—Committee on Programs and Plans Presentations.

• Closed Committee Reports.

Plenary Open

Open Session: 11:30 a.m.-12 p.m., Room 1235

• 60th Anniversary Distinguished Speaker.

Plenary Open

Open Session: 1 p.m.-3 p.m., Room 1235

• Approval of Open Session Minutes, December 2009.

• Closed Session Items for May 2010 Meeting.

• Chairman's Report.

• Task Force on Merit Review.

• Director's Report.

• Open Committee Reports.

Ann Ferrante,
Technical Writer/Editor.

[FR Doc. 2010-1827 Filed 1-26-10; 4:15 pm]

BILLING CODE 7555-01-P